DEPARTMENT OF THE INTERIOR

Bureau of Land Management

[BLM_UT_FRN_MO4500176456]

Notice of Public Meeting, Bears Ears National Monument Advisory Committee, Utah

AGENCY: Bureau of Land Management, Interior.

ACTION: Notice of public meetings.

SUMMARY: In accordance with the Federal Land Policy and Management Act, as amended, the Federal Advisory Committee Act, and the Federal Lands Recreation Enhancement Act, the U.S. Department of the Interior, Bureau of Land Management's (BLM's) Bears Ears National Monument Advisory Committee will meet as indicated below.

DATES: The Bears Ears National Monument Advisory Committee will hold three in-person meetings with virtual participation options in 2024. These meetings are open to the public. The meeting dates are March 27, 2024, August 8, 2024, and December 9, 2024.

ADDRESSES: The meetings will be held in-person at the Hideout Community Center located at 648 South Hideout Way, Monticello, Utah 84535. The meetings will take place from 9 a.m. to approximately 4 p.m. Agendas and virtual meeting access information will be announced on the Bears Ears National Monument Advisory Committee web page 30 days before the meeting at www.blm.gov/benm-mac.

FOR FURTHER INFORMATION CONTACT: Rachel Wootton, Canyon Country District Public Affairs Officer, P.O. Box 7, Monticello, Utah 84535, via email with the subject line “BENM MAC” to blm_ut_mt_mail@blm.gov, or by calling the Monticello Field Office at (435) 587-1500. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 9558 and Presidential Proclamation 10285 established the Bears Ears National Monument Advisory Committee to provide advice and information to the Secretary of the Interior through the Director of the BLM, and to the Secretary of the U.S. Department of Agriculture (USDA) through the Chief of the USDA Forest Service, to consider for managing the Bears Ears National Monument. The 15-member Committee represents a wide range of interests including State and local government, paleontological and archaeological expertise, the conservation community, livestock grazing permittees, Tribal members, developed and dispersed recreation interests, private landowners, local business owners, and the public at large.

Planned agenda items for the March meeting include an overview of the planning efforts to-date, discussion of management alternatives included in the draft Bears Ears National Monument Resource Management Plan, ongoing draft Resource Management Plan public comment period, and general management and administrative updates. Planned agenda items for the August meeting include an overview of the planning efforts to-date, discussion of management alternatives included in the draft Bears Ears National Monument Resource Management Plan, upcoming steps in the planning process including proposed RMP, protest period, and governor's consistency review, and general management and administrative updates. Planned agenda items for the December meeting include planning efforts to-date, discussion of the proposed Bears Ears National Monument Resource Management Plan, ongoing Resource Management Plan protest period and governor's consistency review and general management and administrative updates.

A public comment period will be offered during each meeting at 1:15 p.m. Depending on the number of people wishing to comment and the time available, the time for individual comments may be limited. Written comments may also be sent to the Monticello Field Office at the address listed in the FOR FURTHER INFORMATION CONTACT section of this notice. All comments received prior to the meeting will be provided to the Committee.

Please make requests in advance for sign language interpreter services, assistive listening devices, or other reasonable accommodations. We ask that you contact the person listed under FOR FURTHER INFORMATION CONTACT, at least seven days prior to the meeting to give the Department of the Interior sufficient time to process your request. All reasonable accommodation requests are managed on a case-by-case basis.

Before including your address, phone number, email address, or other personal identifying information in your comment, you should be aware your entire comment—including your personal identifying information—may be made publicly available at any time. While you can ask us in your comment to withhold your personal identifying information from public review, we cannot guarantee we will be able to do so.

Detailed minutes for Bears Ears National Monument Advisory Committee meetings will be maintained in the Canyon Country District Office and will be available for public inspection and reproduction during regular business hours within 90 days following the meeting. Minutes will also be posted to the Committee's web page.

Authority: 5 U.S.C. Ch. 10.

Gregory Sheehan,
State Director.

[FR Doc. 2024-03286 Filed 2-15-24; 8:45 am]

BILLING CODE 4331-25-P